DEPARTMENT OF LABOR

Employment and Training Administration

[TA-W-56,127]

Standard Corporation; A UTI Worldwide Company Kinston, NC; Notice of Termination of Investigation

Pursuant to section 221 of the Trade Act of 1974, as amended, an investigation was initiated on December 3, 2004, in response to a worker petition filed by company official on behalf of workers at Standard Corporation, a UTi Worldwide Company, Kinston, North Carolina.

The petitioning group of workers is covered by an active certification, (TA-W-55,977) which expires on December 9, 2006. Consequently, further investigation in this case would serve no purpose, and the investigation has been terminated.

Signed in Washington, DC this 7th day of January 2005.
Linda G. Poole,
Certifying Officer, Division of Trade Adjustment Assistance.

[FR Doc. E5-490 Filed 2-7-05; 8:45 am]

BILLING CODE 4510-30-P